DEPARTMENT OF COMMERCE

National Oceanic and Atmospheric Administration

RIN 0648-XR002

Marine Mammals; File No. 22156

AGENCY: National Marine Fisheries Service (NMFS), National Oceanic and Atmospheric Administration (NOAA), Commerce.

ACTION: Notice; receipt of application.

SUMMARY: Notice is hereby given that Douglas Nowacek, Ph.D., Nicholas School of the Environment, Duke University Marine Laboratory, 135 Duke Marine Lab Rd, Beaufort, NC 28516, has applied in due form for a permit to conduct research on and import specimens of 31 cetacean species for scientific research.

DATES: Written, telefaxed, or email comments must be received on or before January 22, 2020.

ADDRESSES: The application and related documents are available for review by selecting “Records Open for Public Comment” from the “Features” box on the Applications and Permits for Protected Species (APPS) home page, https://apps.nmfs.noaa.gov, and then selecting File No. 22156 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Shasta McClenahan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct a five-year research program on 31 species of cetaceans in U.S. and international waters of the North Atlantic Ocean. Species include endangered blue (Balaenoptera musculus), fin (B. physalus), sei (B. borealis), and sperm (Physeter macrocephalus) whales. The purpose of the research is to study variation in cetacean behavior, foraging ecology, body condition, health status, population structure, and use of and response to sounds. Researchers would conduct surveys by vessel and an unmanned aircraft system to approach, count, observe, photograph, remotely measure, and track cetaceans. During surveys, researchers may conduct acoustic playback trials in the presence of animals, collect biological samples, and tag animals, with some species receiving two tags at a time. Non-target cetaceans in the vicinity of research could be incidentally harassed. See the application for take numbers by species. Biological samples collected in international waters would be imported into the United States and cell lines may be developed from tissue samples.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: December 17, 2019.
Julia Marie Harrison,
Chief, Permits and Conservation Division, Office of Protected Resources, National Marine Fisheries Service.

[FR Doc. 2019-27569 Filed 12-20-19; 8:45 am]

BILLING CODE 3510-22-P